DEPARTMENT OF THE INTERIOR

Fish and Wildlife Service

50 CFR Part 86

RIN 1018-AF38

National Boating Infrastructure Grant Program

AGENCY: Fish and Wildlife Service, Interior.

ACTION: Proposed rule and information collection.

SUMMARY: This proposed regulation provides for the uniform administration of the National Boating Infrastructure Grant Program and survey authorized by section 7404 of the Sportfishing and Boating Safety Act of 1998. The Program will fund States to install or upgrade transient tie-up facilities for recreational boats 26 feet or more in length. This proposed regulation also contains the proposed information collection the U.S. Fish and Wildlife Service (referred to as “we” or “us” from now on) must submit to the Office of Management and Budget (OMB) for approval under the Paperwork Reduction Act.

DATES: The public must submit comments on or before March 20, 2000 to comment on the grant program.

For the information collection requirements, all comments are due on or before February 22, 2000.

We will accept proposals between May 30, 2000, and November 3, 2000, for the first grant cycle; subsequent grant cycles are announced later in this document.

ADDRESSES: If you wish to comment, you may submit your comments by mail, via fax, or via Email.

1. Submitting comments on the grant program: Mail: Please mail comments on the proposed regulation to Ms. Iesha Fields, Division of Federal Aid, Fish and Wildlife Service, U.S. Department of the Interior, Room 140, 4401 North Fairfax Drive, Arlington, Virginia 22203, or you may hand-deliver comments to the address above. Fax: You may fax comments to: Iesha Fields, Division of Federal Aid, (703) 358-1837. Email: Please submit Email comments to (iesha_fields@fws.gov) as an ASCII file to avoid the use of special characters and any form of encryption. Please also include the following: “Attention: 1018-AF38” and your name and return address in your Email message. If you do not receive a confirmation from the system that we have received your Email message, contact us directly at (703) 358-2435.

2. Submitting comments on the information collection requirements: Mail: The public must make comments and suggestions directly to the Office of Management and Budget, Office of Information and Regulatory Affairs, 725 17th Street, NW, Washington, DC 20503. Please also send a copy of your suggestions to the Information Collection Clearance Officer, U.S. Fish and Wildlife Service, Room 222, 4401 North Fairfax Drive, Arlington, Virginia 22203. You may hand-deliver your comments to these same addresses.

FOR FURTHER INFORMATION CONTACT: Iesha Fields, Division of Federal Aid, telephone (703) 358-2435; fax (703) 358-1837; email (iesha_fields@fws.gov).

SUPPLEMENTARY INFORMATION:

Background

What is the economic status of boating in the United States?

Historically, coastal and inland waterways were the first “highways” along our shores and into the interior of the continent. In the past, Americans used boats almost exclusively for transportation of people and goods. Americans today use more than 12 million recreational boats to cruise and go fishing. Recreational boating is now a significant economic activity in many areas of the country and in many respects exceeds that of waterborne commerce. Given the present demographic forces, we expect a positive economic impact by adding facilities to accommodate larger cruising boats.

Why did Congress enact the Boating Infrastructure grant program?

Recreational boats 26 feet or more in length, called ‘non-trailerable’ boats, represent about 4 percent, or more than 600,000, of the recreational boats in the United States. Although we have approximately 12,000 marinas in the United States, Congress recognized that we have insufficient tie-up facilities for transient boats 26 feet or more in length for reasonable and convenient access from our navigable waters. These boaters are unable to enjoy many recreational, cultural, historic, scenic, and natural resources of the United States. We also have no marinas or commercial tie-up facilities along extended stretches of our coastlines and rivers. In many parts of the country, the number of places to tie-up, moor, or anchor a cruising boat, especially during a storm, is limited. Basic features, such as tie-ups, fuel, utilities, and restrooms, are nonexistent.

What does the Boating Infrastructure Grant Program entail?

The Program provides $32 million to States and Territories over four years to install transient tie-up facilities for recreational boats 26 feet or more in length. The Program also allows funding for completing surveys to determine where these facilities are needed.

What kinds of tie-up facilities can I, the State, construct?

The terms “I”, “you”, “my”, and “your” refer to the State in this regulation. The Boating Infrastructure Grant Program provides funds for a wide range of development proposals for the needs of the States. Some projects will be minimal, such as mooring buoys in sensitive areas. Other projects, such as those at full-service marinas, will provide docking, utilities, and restrooms along waterfronts of major cities.

Can I Acquire Land or Easements?

Shoreline land can be expensive. We therefore discourage the purchase or lease of land or easements for tie-up facilities, unless absolutely necessary. Acquire or lease land only when you expect significant project benefits.

What Will This Program Do?

This program will:

(a) Include transient dockage for recreational boats 26 feet or more in length for recreational opportunities and safe harbors;

(b) Enhance access to recreational, historic, cultural, natural, and scenic resources;

(c) Strengthen community ties to the water's edge and economic benefits;

(d) Promote public/private partnerships and entrepreneurial opportunities;

(e) Provide continuity of public access to the shore; and

(f) Promote awareness of transient boating opportunities.

What Other Activities Does the Act Authorize?

The Act also directs us to:

(a) Develop a national framework or methodology to conduct a boat access needs assessment or survey;

(b) Fund States to complete the boat access needs survey (The survey is to determine the adequacy of facilities for recreational boats of all sizes); and

(c) Complete a comprehensive national assessment of boat access needs and facilities (The assessment is a compilation of information from the States' surveys into a national report of boat access needs and facilities).

Information Collection Requirements

With What Information Collection Requirements Must the Grant Recipients Comply?

The requirements in this regulation, except surveys, are only those needed to fulfill applicable requirements of 43 CFR part 12; see 43 CFR 12.4 for information concerning those requirements. We submitted the collection of survey information contained in this regulation to the Office of Management and Budget for approval, in compliance with 44 U.S.C. 3501 et seq. We may not conduct or sponsor, and OMB does not require a person to respond to, a collection of information unless it displays a currently valid OMB control number. OMB has 60 days in which to respond, but may respond within 30 days; therefore, to ensure that OMB considers your comments, they should receive them within 30 days.

What Information Collection Action is the Service Taking?

We submitted the following information collection requirements to OMB for review and approval under the Paperwork Reduction Act of 1995, 44 USC 3501, et seq. This proposed regulation includes a notice of information collection to fund a survey to determine boater access needs. The public can find the information to be collected below in § 86.118. Doing the survey will include collections of information from the public that require approval by OMB.

On What Should the Public Comment?

We invite the public's remarks on:

(a) Whether or not the collection of information is necessary for the proper performance of the functions of the agency, including whether or not the information will have practical utility;

(b) The accuracy of the agency's estimate of burden, including the validity of the methodology and assumptions used;

(c) Ways to enhance the quality, utility, and clarity of the information on those who are to respond; and

(d) Ways to minimize the burden of the collection of information on respondents, to include using appropriately automated, electronic, mechanical, or other technological collection techniques, or other forms of information technology.

Why do the States and the Service Need This Survey?

States should obtain sufficient information to determine what boat access facilities are currently available to the public, and where they need additional facilities. States will use the information to determine the adequacy, number, location, and quality of facilities that provide public access for all sizes of recreational boats. States will also use this information to develop plans for the construction, renovation, and maintenance of facilities. We will use the information the States provide to develop a comprehensive national report of recreational boat access needs and facilities, which the Act requires. We are collecting this information to better evaluate grant proposals. We will use this information to award or deny grants, following criteria established in the Act and its regulations.

Is Information Already Available About Boat Access?

The States Organization for Boating Access (SOBA) is the primary organization that monitors boating access in the United States. This organization says that this information is not generally available. Scoping meetings and telephone and Email inquiries with SOBA and 12 States revealed that the information was not available without the survey. We also consulted with the following: BOAT/US, International Association of Fish and Wildlife Agencies, Marina Operators Association of America, Marine Environmental Education Foundation, Marine Retailers Association of America, National Association of State Boating Law Administrators, National Boating Federation, and National Marine Manufacturers Association of America. To the extent possible, States will use information already available.

However, some information is out of date since some marinas have gone out of business. Some sites are no longer open. New sites have been constructed. Finally, boating use and needs may have changed since any previous survey has been completed. A few States have completed a similar survey. Section 7404(b) of the Act exempts States that have already completed such a survey. We do not anticipate any duplication.

How Will the Service Minimize the Burden on Small Businesses and Small Entities?

Part C of the survey will include all non-State providers of transient facilities. This number will be small. Part D of the survey will include only a subset of small businesses and small entities to minimize the burden to them. These are the minimum number of questions necessary to obtain the information. Information already available will be used to the extent possible. We do not anticipate any significant impacts to small businesses or small entities.

What Happens if the States do not Complete the Survey?

States would not have an adequate basis to identify which boating access facilities are adequate, and where the States need additional facilities. States would not spend awarded funds most efficiently. If information is not available to boaters on facility locations, they will not use the facilities and will waste Federal funds. Section 7404(b) of the Act requires us to develop a comprehensive national report of recreational boat access needs and facilities. Without the survey, we could not complete this requirement.

What is the Hour Burden of the Collection of Information?

We expect the information requested to vary depending upon the type of information requested from a particular respondent. Different respondents may provide one or more types of information. Respondents will usually provide the data verbally. Responses may vary from 10 minutes to 1 hour for completion and submission to the States, depending upon the types of information collected from a particular respondent, with an average of 38 minutes per response. This response time estimate includes time to review instructions, gather and maintain data, and complete and review the forms.

We estimate that States will conduct 39,200 interviews of boat owners for Parts A and B, with averages of 200 per State for Part A and 500 per State for Part B, for 50 States and 6 territories. States will conduct 12,400 interviews of providers for Parts C and D, with averages of 150 per State for Part C and 71 per State for Part D.

We estimate that States will interview 150 providers for Part C (all 56 State/Territory providers plus most Federal/municipal agencies and marinas). We estimate that States will interview 71 providers for Part D (all 56 State/Territory providers plus the few Federal/municipal agencies and marinas). Some boaters will fill out Parts A and B, and most providers will fill out Parts C and D. We therefore estimate that 45,400 different individuals will respond.

We estimate that, for Part A, 8,400 boaters will respond; for Part B, 28,000 boaters will respond; for Part C, 8,000 providers will respond; and for Part D, 1,000 providers will respond. We estimate the response rate to be 70 percent, with States following up with the same number of respondents until they reach 70 percent. We estimate a total of 15,000 burden hours for the potential 45,400 respondents.

We estimate the cost for information collection is 15,000 burden hours at $20.00 per hour, or $300,000. This amount is $196,000 at 9,800 burden hours for boaters, and $104,000 at 5,200 burden hours for providers. This amount is a one-time cost that States will incur over a 3 year period. Some States will complete the survey the first year, some later.

Type of information | Number of respondents ¹ | Average time required per response (minutes) | Annual burden hours
Boat owners: Part A | 12,200 | 15 | 2,800
Boat owners: Part B | 28,000 | 15 | 7,000
Boat owners: Part C | 8,400 | 25 | 3,500
Boat owners: Part D | 4,000 | 25 | 1,700
¹ These numbers are not additive since some boaters will fill out both Parts A and B, and most of the providers will fill out both Parts C and D.

What is the Total Annual Cost Burden to Respondents or Record-keepers?

The Federal Government will pay 75 percent of the costs of the surveys. The Bureau of Census estimates that telephone surveys cost $25 per interview. At 921 interviews per State, we expect the total cost of each survey to be $23,000. We also obtained estimates from States that have recently completed such a survey, and we determined the cost to be $25,000. If the 56 States and Territories complete surveys, the total cost would be $1,400,000, or $1,050,000 for the Federal Government's portion. If States use mail surveys, the cost would be similar. However, their response rate is lower and, therefore, not as effective. This will be a one-time cost during the 3 year period, either in-house or contracting out costs to generate the information. We estimate that the Federal Government will incur no additional costs for this information collection. States will obtain all the information. We expect no program changes or adjustments.

What are the Environmental Effects of This Regulation and Information Collection?

This regulation and information collection requirement is not a major Federal action significantly affecting the quality of the human environment. In compliance with 516 DM 2, Appendix 1, we have determined that this regulation is categorically excluded from the National Environmental Policy Act process. It is limited to “policies, directives, regulations and guidelines of an administrative, financial, legal, technical or procedural nature.” The National Environmental Policy Act of 1969 does not require a detailed statement. However, once approved for funding, the States must provide environmental documentation consistent with Federal and State regulations before constructing/renovating tie-up facilities.

What Requirements Must I, the State, Comply With for Other Acts?

When you participate in this national grant program, you must comply with National Environmental Policy Act requirements, Appendix 1 of 516 Department Manual 6, Clean Water Act, Endangered Species Act, Coastal Barriers Resources Act as amended by the Coastal Barrier Improvement Act, Coastal Zone Management Act, and Executive Orders on Floodplains (E.O. 11988), Wetlands (E.O. 11990), historic/cultural resources, prime and unique farmlands, and EPA Marine Guidance 6217 (or replacement).

Our Policy on Comments That We Receive

We will take into consideration public comments and any additional information received during the comment period. Our practice is to make comments, including in most cases names and addresses of respondents, available for public review during regular business hours. Individual respondents may request that we withhold their home address from the rule-making record, which we will honor to the extent allowable by law. In limited circumstances we would withhold a respondent's identity from the rule-making record, as allowable by law. If you wish us to withhold your name and address, you must state this prominently at the beginning of your comment. However, we will not consider anonymous comments. We will make all submissions from organizations or businesses and from individuals who identify themselves as representatives or officials of organizations or businesses available for public inspection completely.

Required Determinations

What are the Effects of This Regulation on Other Acts and Executive Orders?

Regulatory Planning and Review (E.O. 12866)

This document is not a significant regulation subject to Office of Management and Budget review under Executive Order 12866.

(a) This rule will not have an annual economic effect of $100 million or adversely affect an economic sector, productivity, jobs, the environment, or other units of government. We do not need a cost-benefit and economic analysis. Program funds total $8 million per year for four years, for a total of $32 million. Program funds for surveys total $1,050,000. States must match these amounts with 25 percent or $2 million per year. State match totals $8 million. This $10 million a year for grants would not have an economic effect of $100 million. The program will not negatively affect an economic sector, productivity, jobs, and other units of government. The program will have a positive effect on these factors. We will review all actions for NEPA compliance to protect the environment.

(b) This rule will not create inconsistencies with other agencies' actions. We will give all agencies an opportunity to review the proposed rule. We will require the necessary Federal, State, and local reviews and permits before allowing construction of all facilities. These reviews will ensure that this rule will not create inconsistencies with other agencies' actions.

(c) This rule will not materially affect entitlements, grants, user fees, loan programs, or the rights and obligations of their recipients. This grant program does not stipulate any requirements that would affect entitlements, grants, or loan programs. User fees are not mandatory and allow only enough charges to maintain the facility. The amount of facilities, user fees, or fee charges will not materially affect user fees. The program will not affect the rights of recipients. The program will only obligate the recipient to maintain the facility. All stipulations will be voluntarily accepted prior to awarding funds for facility construction.

(d) This rule will not raise novel legal or policy issues. This program will award funds to States to install facilities for transient non-trailerable boats. This grant program is similar to past Federal Aid grant programs for construction of facilities. No novel legal or policy issues have been or are expected to be raised by this program.

Regulatory Flexibility Act

The Department certifies that this document will not have a significant economic effect on a substantial number of small entities under the Regulatory Flexibility Act (5 U.S.C. 601 et seq.). Eight million dollars will be available annually for a 4-year period. The effects of these regulations occur to agencies in the States, Puerto Rico, Guam, the Virgin Islands, American Samoa, the District of Columbia, and the Northern Mariana Islands. These are not small entities under the Regulatory Flexibility Act. Some small entities, mainly marina operators, may receive grant funds. The program will place facilities where there are none now, in remote areas where no competition exists, and in populated areas where marinas have not previously installed them. The program will, therefore, minimize competition with private industry. Employment, investment, productivity, and innovation should all increase because the program will construct facilities to attract transient boaters. The result will be to increase spending in the area. U.S.-based enterprises' ability to compete with foreign-based enterprises should not be affected by this rule. The rule does not stipulate any procedures regarding this issue.

Small Business Regulatory Enforcement Fairness Act (SBREFA)

This regulation is not a major rule under 5 U.S.C. 804(2), the Small Business Regulatory Enforcement Fairness Act, as discussed in the Regulatory Planning and Review and Regulatory Flexibility Act sections above.

Unfunded Mandates Reform Act

This regulation does not impose an unfunded mandate on State, local, or tribal governments or the private sector of more than $100 million per year. This regulation does not have a significant or unique effect on State, local, tribal governments, or the private sector. The rule would establish a grant program that States may participate in voluntarily. A statement containing the information required by the Unfunded Mandates Reform Act (2 U.S.C. 1531 et seq.) is not required.

Takings (E.O. 12630)

In compliance with Executive Order 12630, this regulation does not have significant takings implications. The rule provides standardized procedures for administering a Federal discretionary grant program.

Federalism Assessment (E.O. 13132)

In compliance with Executive Order 13132, this regulation does not have sufficient Federalism implications to warrant the preparation of a Federalism Assessment. The regulation allows eligible States to make decisions regarding the development and submission of proposed grants for construction renovation, maintenance, or public information and education programs. Therefore, it is consistent with Executive Order 13132.

Civil Justice Reform (E. O. 12988)

In compliance with Executive Order 12988, the Office of the Solicitor has determined that this regulation does not unduly burden the judicial system and meets the requirements of §§ 3(a) and 3(b)(2) of the Order.

Paperwork Reduction Act

The information collection requirements contained in this regulation, except surveys that are described above, are only those necessary to fulfill applicable requirements of 43 CFR Part 12; see 43 CFR 12.4 for information concerning Office of Management and Budget approval of those requirements. The information collection requirements related to the surveys will not be imposed until OMB approval under the provisions of 44 U.S.C. 3501 et seq. For detailed information concerning the surveys refer to the section above titled “INFORMATION COLLECTION REQUIREMENTS”.

Clarity of This Regulation

Executive Order 12866 requires each agency to write regulations that are easy to understand. We invite your comments on how to make this regulation easier to understand, including answers to questions such as the following:

(a) Are the requirements in the regulation clearly stated?

(b) Does the regulation contain technical language or jargon that interferes with its clarity?

(c) Does the format of the regulation (grouping and order of sections, use of headings, paragraphing, etc.) aid or reduce its clarity?

(d) Would the regulation be easier to understand if we divided it into more (but shorter) sections?

(e) Is the description of the regulation in the “Summary” section of the preamble helpful to understand the regulation?

(f) What else could we do to make the regulation easier to understand?

What intergovernmental review procedures must I as a State follow?

Executive Order 12372 “Intergovernmental Review of Federal Programs” and 43 CFR Part 9 “Intergovernmental Review of Department of the Interior Programs and Activities” applies to the National Boating Infrastructure Grant Program. Under the Order, you may design your own processes to review and comment on proposed Federal assistance under covered programs.

What is my Responsibility as a State if I Participate in the Executive Order Process Having Single Points of Contact?

You should alert your Single Points of Contact (SPOCs) to the prospective applications and receive any necessary instructions to provide material the SPOC requires. You must submit all required materials, if any, to the SPOC and show the date of this submittal (or the date of contact if the SPOC does not require submittal) on the narrative. If you are from a State that chooses to exempt the grants, you need take no action regarding E.O. 12372.

Who is the author of this regulation? Robert D. Pacific, Division of Federal Aid, U.S. Fish and Wildlife Service.

List of Subjects in 50 CFR Part 86

Administrative practice and procedure, Boats and boating, Grant programs—recreation, Natural resources, Recreation and recreation areas, and Reporting and recordkeeping requirements.

For the reasons set out in the preamble, we propose to amend Subchapter F of Chapter I, Title 50 of the Code of Federal Regulations, by adding a new part 86 to read as follows.

PART 86—NATIONAL BOATING INFRASTRUCTURE GRANT PROGRAM

Subpart A—General Information About the Grant Program
Sec.
86.10 What does this regulation do?
86.11 What does the National Boating Infrastructure Grant Program do?_
86.12 What is boating infrastructure?
86.13 Am I eligible to apply for these grants?
86.14 How does the grant process work?
86.15 What are the information collection requirements?
Subpart B—Funding State Grant Proposals
86.20 What activities are eligible for funding?
86.21 What activities are ineligible for funding?
Subpart C—Public Use of the Facility
86.30 Must I allow the public to use the grant-funded facilities?
86.31 How much money may I charge the public to use tie-up facilities?
Subpart D—Funding Availability
86.40 How much money is available for grants?
86.41 How long will the money be available?
86.42 What are the match requirements?
86.43 May someone else supply the match?
86.44 What are my allowable costs?
86.45 When will I receive the funds?
Subpart E—How States Apply for Grants
86.50 Who may apply?
86.51 When must I apply?
86.52 To whom must I apply?
86.53 What information must I include in my grant proposals?
86.54 What are funding tiers?
86.55 How must I submit proposals?
86.56 What are my compliance requirements with Federal laws, regulations, and policies?
Subpart F—How the Service Selects Grants
86.60 What are the criteria used to select grants?
86.61 What process does the Service use to select grants?
86.62 What must I do after my grant has been selected?
86.63 Are there any appeals if my project has not been selected?
Subpart G—How States Manage Grants
86.70 What are my requirements to acquire, install, operate, and maintain real and personal property?
86.71 How will I be reimbursed?
86.72 Are there any other requirements?
86.73 What if I don't spend all the money?
86.74 What if I need more money?
Subpart H—Report Requirements for the States
86.80 What are my reporting requirements for this grant program?
86.81 When are the reports due?
86.82 What must be in the reports?
Subpart I—State Use of Signs and Sport Fish Restoration Symbols
86.90 What are my responsibilities for information signs?
86.91 What are my program crediting responsibilities?
86.92 Who can use the SFR logo?
86.93 Where should I use the SFR logo?
86.94 What crediting language should I use?
Subpart J—Service Completion of the National Framework
86.100 What is the National Framework?
86.101 What is the Service schedule to adopt the National Framework?
86.102 How did the Service design the National Framework?
Subpart K—How States Will Complete Access Needs Surveys
86.110 What does the State survey do?
86.111 Must I do a survey?
86.112 What are the advantages of doing a survey?
86.113 What if I have recently completed a boat access survey?
86.114 Do I need to conduct a survey if I already have a plan installing tie-up facilities for boats 26 feet or more in length?
86.115 How should I administer the survey?
86.116 May I change the questions in the survey?
86.117 What is the Service schedule to approve the survey?
86.118 What are the questions in this survey instrument?
Subpart L—Completing the Comprehensive National Assessment
86.120 What is the Comprehensive National Assessment?
86.121 What does the Comprehensive National Assessment do?
86.122 Who completes the Comprehensive National Assessment?
86.123 When is the Comprehensive National Assessment due?
86.124 What are the Comprehensive Assessment products?
Subpart M—How States Will Complete the State Program Plans
86.130 What does the State program plan do?
86.131 Must I do a plan?
86.132 What are the advantages to doing a plan?
86.133 What are the plan standards?
86.134 What if I am already carrying out a plan?
86.135 What is the Service schedule to approve the plans?
86.136 What must be in the plan?
86.137 What variables should I consider?

Authority: Title 7, Subtitle D, Pub. L. 105-178, 112 Stat. 482.

Subpart A—General Information About the Grant Program

§ 86.10 What does this part do?

In this part, the terms “I”, “you”, “my”, and “your” refer to the State in this regulation. “We” and “us” refers to the Fish and Wildlife Service. This part establishes your requirements under the Sportfishing and Boating Safety Act of 1998 (Public Law 105-178, Subtitle D, 112 Stat. 482) to:

(a) Participate in the National Boating Infrastructure Grant Program (the program),

(b) Complete your boat access survey, and

(c) Develop State plans to install transient tie-up facilities for boats 26 feet or more in length. In this part:

(1) Tie-up facilities mean facilities that transient recreational boats 26 feet or more in length occupy temporarily, not to exceed 10 consecutive days; for example, temporary shelter from a storm; a way station en route to a destination; a mooring feature for fishing; or a dock to visit a recreational, historic, cultural, natural, or scenic site.

(2) Nontrailerable recreational vessels mean motorized boats 26 feet or more in length manufactured for and operated primarily for pleasure, including vessels leased, rented, or chartered to another person for his or her pleasure.

§ 86.11 What does the National Boating Infrastructure Grant Program do?

This program provides funds for States to construct, renovate, and maintain tie-up facilities with features for transient boaters in vessels 26 feet or more in length, and to produce and distribute information and educational materials about the system/program.

(a) Grant means financial assistance the Federal Government awards to an eligible grantee.

(b) States means individual States within the United States, the District of Columbia, the Commonwealth of Puerto Rico, Guam, American Samoa, the Virgin Islands, and the Commonwealth of the Northern Mariana Islands.

(c) Construct means activities that produce new capital improvements and increase the value or usefulness of existing property. These activities include adding new (presently do not exist), replacing, or expanding tie-up facilities.

(d) Renovate means to rehabilitate or repair a tie-up facility to restore it to its original intended purpose, or to expand its purpose to allow transient nontrailerable boats.

(e) Maintain means activities necessary to keep up the tie-up facility. These are activities that allow the facility to continue to function, such as repairing docks, etc. These activities exclude routine janitorial activities.

§ 86.12 What is boating infrastructure?

Boating infrastructure refers to features that provide stopover places for transient boats 26 feet or more in length to tie up. These features include, but are not limited to:

(a) Mooring buoys (permanently anchored floats designed to tie up recreational vessels 26 feet or more in length),

(b) Day-docks (nontrailerable tie-up facilities that do not allow overnight use),

(c) Navigational aids (aids to navigation, such as channel markers, buoys, and directional information),

(d) Seasonal slips (slips for recreational boats 26 feet or more in length that boaters occupy for no more than 10 consecutive days),

(e) Safe harbors (facilities protected from waves, wind, tides, ice, currents, etc., that provide temporary safe anchorage point or harbor of refuge during storms),

(f) Floating and fixed piers,

(g) Floating and fixed breakwaters,

(h) Dinghy docks (floating or fixed platforms that nontrailerable boaters use for a temporary tie-up of their small boats to access the shore),

(i) Restrooms,

(j) Retaining walls,

(k) Bulkheads,

(l) Dockside utilities,

(m) Pumpout stations,

(n) Recycling and trash receptacles,

(o) Electric service,

(p) Water supplies, and

(q) Pay telephones.

§ 86.13 Am I eligible to apply for these grants?

You may apply for these grants if you are an agency of a State, with authority from the State Government to submit application. States must identify one key contact only and must submit proposals through this person.

§ 86.14 How does the grant process work?

To ensure that grants address the highest national priorities identified in the Act, we make funds available on a competitive basis. We will fund the proposals that best meet the funding criteria. You must submit your proposals by a certain date within the annual cycles. You must address certain questions and criteria to be eligible and competitive. We will conduct a panel review of all proposals, and the Service director will make the final awards. You may begin work on your project only after you have signed a grant agreement.

§ 86.15 What are the information collection requirements?

This part contains both routine information collection and survey requirements, as follows:

(a) The routine information collection requirements for grants application and associated record keeping contained in this part are only those necessary to fulfill applicable requirements of 43 CFR Part 12. These requirements include recordkeeping and reporting requirements. See 43 CFR 12.4 for information concerning Office of Management and Budget approval of those requirements.

(b) The information collection requirements related to the surveys have been submitted to OMB for approval. They will not be imposed until OMB approval under the provisions of 44 U.S.C. 3501 et seq. The surveys are voluntary and are for States to determine the adequacy, number, location, and quality of facilities that provide public access for all sizes of recreational boats. The public's burden estimate for the surveys is as follows:

Type of information | Number of respondents ¹ | Average time required per response (minutes) | Annual burden hours
Boat owners: Part A | 12,200 | 15 | 2,800
Boat owners: Part B | 28,000 | 15 | 7,000
Boat owners: Part C | 8,400 | 25 | 3,500
Boat owners: Part D | 4,000 | 25 | 1,700
¹ These numbers are not additive since some boaters will fill out both Parts A and B, and most of the providers will fill out both Parts C and D.

(c) Send comments regarding this burden estimate or any other aspect of this collection of information, including suggestions for reducing the burden, to the Service Information Collection Clearance Officer, ms—224 ARLSQ, Fish and Wildlife Service, Washington, DC 20240, or the Office of Management and Budget, Paperwork Reduction Project 1018—_, Washington, DC 20503.

Subpart B—Funding State Grant Proposals

§ 86.20 What activities are eligible for funding?

Your project is eligible for funding if you propose to:

(a) Construct, renovate, and maintain public and private boating infrastructure tie-up facilities. To be eligible you must:

(1) Build these facilities on navigable waters, available to the public.

(i) Navigable waters means waters connected to or part of the jurisdictional waters of the United States that transient boats 26 feet or more in length currently use or can use for recreation;

(ii) Available means a transient tie-up facility where the public can reasonably access the facility, located where all boats typical to that facility can easily use it, where the facility provider charges equitable fees, and where open periods are reasonable;

(2) Design them for temporary use for recreational boats 26 feet or more in length. Temporary use means short-term use of a tie-up facility for transient vessels, not to exceed 10 consecutive days;

(3) Build them in water deep enough for boats 26 feet or more in length to navigate: A minimum of 6 feet of depth at the lowest tide or other measure of fluctuation;

(4) Provide security, safety, and service for these boats; and,

(5) Install a pumpout station if you construct facilities for overnight stays since keeping sewage out of our waterways is important.

(i) If there is already a pumpout within reasonable distance (generally within 2 miles) of the facility, you may not need one;

(ii) For facilities intended as day stops, we do not require, but encourage, you to install a pumpout; and,

(iii) You may use funds from this grant program, or the Clean Vessel Act pumpout grant program, also administered by this agency, to pay for a pumpout station;

(b) Do one-time dredging only, to give transient vessels safe channel depths between the tie-up facility and maintained channels or open water;

(c) Install navigational aids, limited to giving transient vessels safe passage between the tie-up facility and maintained channels or open water;

(d) Apply funds to grant administration; and,

(e) Fund preliminary costs.

(1) Preliminary costs may include any of the following activities completed prior to signing a grant agreement:

(i) Conducting appraisals;

(ii) Administering environmental reviews and permitting;

(iii) Conducting technical feasibility studies, for example, studies pertaining to environmental, economic, and construction engineering concerns;

(iv) Carrying out site surveys and engaging in site planning;

(v) Preparing cost estimates;

(vi) Preparing working drawings, construction plans, and specifications;

(vii) Inspecting construction; and,

(viii) Construction, including site preparation, materials, equipment rental, and demolition.

(2) We will fund these costs only if we approve the project.

(3) If the project is approved, the appropriate regional director must still approve these costs.

§ 86.21 What activities are ineligible for funding?

Your project is ineligible for funding if you propose to:

(a) Complete a project that does not provide public benefits, for instance, a project that is not open to the public for use.

(b) Involve enforcement activities.

(c) Significantly degrade or destroy valuable natural resources or alter the cultural or historic nature of the area.

(d) Provide structures not expected to last at least 20 years.

(e) Do maintenance dredging.

(f) Fund operations or routine, custodial and janitorial maintenance of the facility.

(g) Construct/renovate/maintain boating infrastructure tie-up facilities for nontransient vessels, for example the following:

(1) Tie-up slips available for occupancy for more than 10 consecutive days by a single party;

(2) Dryland storage;

(3) Haul-out features; and,

(4) Boating features for trailerable or ‘car-top’ boats (these two terms refer to boats less than 26 feet in length), such as launch ramps and carry-down walkways.

(h) Conduct surveys to determine boating access needs.

(1) You may conduct the survey with funds allocated to motorboat access to recreational waters under subsection (b)(1) of section 8 of the Federal Aid in Sport Fish Restoration Act of 1950, as amended (16 U.S.C. 777).

(2) Our regional offices should encourage States to combine surveys under one contractor where feasible if these States can realize a cost or other savings.

(i) Develop a State program plan to construct, renovate, and maintain boating infrastructure tie-up facilities. “State program plan” means a plan to identify existing tie-up facilities and features; needed construction, renovation, and maintenance; and access to facilities.

Subpart C—Public Use of the Facility

§ 86.30 Must I allow the public to use the grant-funded facilities?

(a) You must allow reasonable access to all recreational vessels for the useful life of the tie-up facilities. You must allow public access to the shore and basic features such as fuel and restrooms when they are available. You must specify precise details in the contract with the facility manager. We do not require public access to the remainder of a park or marina where the facility is found. Nor do we require any further restrictions in that park or marina.

(b) You must comply with American Disabilities Act requirements when you construct or renovate all transient recreational vessel tie-up facilities under this grant.

§ 86.31 How much money may I charge the public to use tie-up facilities?

You may charge the public only a reasonable fee, based on the prevailing rate in the area. You must determine a fee that does not pose an unreasonable competitive amount, based on other public and private tie-up facilities in the area. You must approve any proposed changes in fee structure by a sub-grantee.

Subpart D—Funding Availability

§ 86.40 How much money is available for grants?

This program is authorized $32 million for 4 years.

§ 86.41 How long will the money be available?

The program begins in Fiscal Year 2000 and ends in Fiscal Year 2003. Funds are available for obligation to the States for 3 years.

§ 86.42 What are the match requirements?

The Act authorizes the Director of the U.S. Fish and Wildlife Service (Service) to award grants to States to pay up to 75 percent of the cost to construct, renovate, or maintain tie-up facilities for transient boats more than 26 feet in length. You or a partner must pay the remaining 25 percent match. Title 43 CFR 12.64 applies to cost sharing or matching requirements. Property is eligible for a State match.

§ 86.43 May someone else supply the match?

Third party, in-kind contributions, including property, is allowable, but must be necessary and reasonable to accomplish grant objectives. In-kind contributions must also represent the current market value of noncash contributions that the third party furnishes as part of the grant.

§ 86.44 What are my allowable costs?

(a) You may spend only funds that are necessary and reasonable to accomplish the approved grant objectives. Grant costs must meet the applicable Federal cost principles in 43 CFR 12.60(b). You may purchase informational and program signs as allowable costs.

(b) If you include purposes other than those eligible under the Act, we will prorate the costs equitably among the various purposes. You may use grant funds only for the part of the activity related to the Sportfishing and Boating Safety Act.

§ 86.45 When will I receive the funds?

Once you sign the grant agreement, the funds will be made available.

Subpart E—How States Apply for Grants

§ 86.50 Who may apply?

(a) Only States may apply for grants under this program.

(b) You must identify one agency contact per State and submit proposals through this contact. Typically the contact is a division of the Department of Natural Resources or similar environmental department.

§ 86.51 When must I apply?

(a) We will accept proposals between May 30, 2000, and November 3, 2000, for the first grant cycle; between February 1, 2001, and May 1, 2001, for the second grant cycle; and, between February 1, 2002, and May 1, 2002, for the third grant cycle. This program starts Fiscal Year 2000 and ends Fiscal Year 2003. Fiscal Year 2000 begins on October 1, 1999. We will have $16 million to award the first year, and $8 million each year after that.

(b) The annual schedule follows:

Schedule | FY 2000-2001 | FY 2002 | FY 2003
We announce the grant cycle by | May 30, 2000 | February 1, 2001 | February 1, 2002.
You submit your grant proposal by | November 3, 2000 | May 1, 2001 | May 1, 2002.
Regions submit the proposals to Washington by | December 3, 2000 | July 1, 2001 | July 1, 2002.
We rank the proposals by | January 3, 2001 | August 1, 2001 | August 1, 2002.
The Director approves proposals by | January 13, 2001 | August 10, 2001 | August 10, 2002.
Regions finalize their grant agreements by | February 13, 2001 | October 1, 2001 | October 1, 2002.

§ 86.52 To whom must I apply?

You must submit your proposals to the appropriate regional office of the U.S. Fish and Wildlife Service. See the chart below for the address you will need.

Region | States | Address | Telephone
1 | American Samoa, California, Commonwealth of the Northern Mariana Islands, Guam, Hawaii, Idaho, Nevada, Oregon, and Washington | Division of Federal Aid, U.S. Fish & Wildlife Service, Eastside Federal Complex, 911 NE 11th Avenue, Portland, OR 97232-4181 | 503-231-6128
2 | Arizona, New Mexico, Oklahoma, and Texas | Division of Federal Aid, U.S. Fish & Wildlife Service, P.O. Box 1306, 500 Gold Avenue, SW, Albuquerque, NM 87103 | 505-248-7465
3 | Illinois, Indiana, Iowa, Michigan, Minnesota, Missouri, Ohio, and Wisconsin | Division of Federal Aid, U.S. Fish & Wildlife Service, Bishop Henry Whipple Federal Building, 1 Federal Drive, Fort Snelling, MN 55111-4056 | 612-713-5138
4 | Alabama, Arkansas, Florida, Georgia, Kentucky, Louisiana, Mississippi, North Carolina, Puerto Rico, South Carolina, Tennessee, and the Virgin Islands | Division of Federal Aid, U.S. Fish & Wildlife Service, 1875 Century Boulevard, Suite 240, Atlanta, Georgia 30345 | 404-679-7113
5 | Connecticut, Delaware, District of Columbia, Maine, Maryland, Massachusetts, New Hampshire, New Jersey, New York, Pennsylvania, Rhode Island, Vermont, Virginia, and West Virginia | Division of Federal Aid, U.S. Fish & Wildlife Service, 300 Westgate Center Drive, Hadley, MA 01035-9589 | 413-253-8406
6 | Colorado, Kansas, Montana, Nebraska, North Dakota, South Dakota, Utah, and Wyoming | Division of Federal Aid, U.S. Fish & Wildlife Service, P.O. Box 25486, Denver, Colorado 80225 | 303-236-8155
7 | Alaska | Division of Federal Aid, U.S. Fish & Wildlife Service, 1011 East Tudor Road, Anchorage, Alaska 99503 | 907-786-3322

§ 86.53 What information must I include in my grant proposals?

You must submit a narrative that identifies and describes the following:

(a) Needs within the purposes of the Act (if you have an approved program plan, you must show how the activities in your proposal support the State program plan).

(b) Discrete objective(s) you will accomplish during a specified time.

(c) Expected results or benefits from accomplishing the objectives, including the numbers of recreational vessels and people the proposed facility will serve.

(d) The approach you will use to meet the objectives.

(e) Amount and source of matching funds.

(f) Estimated schedule of fees for use of the facility.

(g) A summary of how the proposal meets each criterion. And,

(h) The approach you will use to meet the objectives include the following:

(1) Specific procedures.

(2) Schedules.

(3) Key personnel and cooperators.

(4) Grant location.

(5) Innovative approaches.

(i) “Innovative” means unique approaches, combinations of unique and proven or traditional approaches, or creative combinations of proven or traditional approaches that synergistically increase the availability of tie-up facilities beyond what we would expect;

(ii) Innovative approaches include education/information programs, brochures, cruising guides, and charts.

(6) Public/private partnerships (partnerships between State agencies, between States and municipalities, or between States and private groups, individuals, or businesses).

(7) Education. “Education” means providing information to transient boaters about:

(i) The boating infrastructure grant program;

(ii) The location of transient nontrailerable tie-up facilities;

(iii) Costs to use these facilities;

(iv) Safety and environmental awareness; and

(v) Services available at these facilities.

(8) Public access.

(9) Estimated costs.

§ 86.54 What are funding tiers?

(a) This grant program will consist of two tiers of funding.

(b) You may apply for one or both.

(c) Two tiers will allow all States some certainty of base level.

(d) Tier One funding will ensure broad geographical distribution to meet the needs of boats 26 feet or more in length.

(e) Tier Two funding will allow States with large projects to compete with other States with large projects based on individual project merits.

(f) We describe the two tiers as follows:

(1) Tier One Projects.

(i) You may submit a grant with an unlimited number of projects within this tier. However, your request cannot exceed $100,000 of Federal funds;

(ii) We will use one score for all Tier One projects, using the criteria in § 86.60;

(iii) Tier One projects that receive a minimum score of 60 points will automatically receive funds if they comply with the Federal Aid in Sport Fish Restoration (SFR) Program and other Federal requirements; and

(iv) If Tier One projects do not receive the required points, we will include the projects in Tier Two.

(2) Tier Two Projects.

(i) There is no dollar limit for Tier Two, and you may submit any number of projects, which we will score and rank separately; and

(ii) Each project will compete nationally against every other project in Tier Two.

§ 86.55 How must I submit proposals?

(a) You may apply for either Tier One or Tier Two or both.

(b) You may submit more than one project within Tier One and Tier Two.

(c) You may submit one grant proposal that includes Tier One and Tier Two projects.

(d) If you submit Tier One and Tier Two projects you must describe Tier One projects separately from Tier Two projects.

(e) You must describe each project in Tier Two separately, so that we can rank and score each project in Tier Two separately.

(f) For the first grant cycle, which includes $16,000,000, you may submit two sets of Tier One projects, each for the $100,000 limit. If both projects meet the threshold criteria, we will fund them both, one with FY 2000 funds, and the second one with FY 2001 funds.

(g) For the remaining grant cycles, you must submit only one set of Tier One projects.

(h) When we approve projects, our regional office will determine how many grant agreements are necessary.

§ 86.56 What are my compliance requirements with Federal laws, regulations, and policies?

(a) To receive Federal funds, you must agree to and certify compliance with all applicable Federal laws, regulations, and policies. You must submit an assurances statement that describes how you comply with Federal grant requirements. And,

(b) You may have to provide additional documentation to comply with environmental and other laws, as defined in Fish and Wildlife Service Manual 523 FW 1. The regional office grant administrator may request preliminary evidence at the grant proposal stage that the proposed project will meet these compliance requirements. Consult with regional offices for specific applicability.

Subpart F—How the Service Selects Grants

§ 86.60 What are the criteria used to select grants?

(a) We will rank all proposals according to the criteria in paragraph (b) of this section.

(b) We will consider proposals that:

(1) Are to construct and renovate tie-up facilities for transient recreational boats 26 feet or more in length following your State's program plan that we have approved under section 7404(c) of the Sportfishing and Boating Safety Act—15 points.

(2) Provide for public/private and public/public partnership efforts to develop, renovate, and maintain tie-up facilities. These partners must be other than the Service and lead State agency.

(i) One partner—5 points.

(ii) Two partners—10 points.

(iii) Three or more partners—15 points.

(3) Use innovative techniques to increase the availability of tie-up facilities for transient vessels 26 feet or more in length (includes education/information)—0-15 points.

(4) Include private, local, or other State funds besides the 25 percent State match, described in § 86.40.

(i) Thirty-five percent above—5 points.

(ii) Between thirty-six and forty-nine percent above—10 points.

(iii) Fifty percent above—15 points.

(5) Are cost efficient. Proposals are cost efficient when the tie-up facility or access site's features add a high value compared with the funds from the proposal. For example, where you construct a small feature such as a transient mooring dock within an existing harbor that adds high value and opportunity to existing features (restrooms, utilities, etc.). A proposal that requires installing all of the above features would add less value for the cost—0-10 points.

(6) Provide a significant link to prominent destination way points such as those near metropolitan population centers, cultural or natural areas, or that provide safe harbors from storms—10 points.

(7) Provide access to recreational, historic, cultural, natural, or scenic opportunities of local, regional, or national significance.

(i) Local significance—5 points.

(ii) Regional significance—10 points.

(iii) National significance—15 points.

(8) Provide significant positive economic impacts to a community. For example, a project that costs $100,000 attracts a significant number of boaters who spend $1 million a year in the community—1-5 points. And,

(9) Include multi-State efforts that result in coordinating location of tie-up facilities—5 points.

(10) Total possible points—100 points.

§ 86.61 What process does the Service use to select grants?

Our Division convenes a panel of Federal Aid staff to review, rank, and recommend funding to the Director. This panel will include representatives from Washington, DC, and regional offices. The Director may convene an advisory panel of nongovernmental organizations to advise and make recommendations to the Federal panel. The Director will make the selection of eligible grants by January 13, 2001, August 10, 2001, and August 10, 2002, for the three grant cycles.

§ 86.62 What must I do after my grant has been selected?

After your award is approved, you will be notified to work with the appropriate regional office to fulfill the grant documentation requirements and finalize the grant agreement.

§ 86.63 Are there any appeals if my project has not been selected?

If you have a difference of opinion over the eligibility of proposed activities or differences arising over the conduct of work, you may appeal to the Director. Final determination rests with the Secretary of the Interior.

Subpart G—How States Manage Grants

§ 86.70 What are my requirements to acquire, install, operate, and maintain real and personal property?

(a) You will find applicable regulations for this subject in 43 CFR 12.71 and 12.72. If questions arise about applicability, you should contact the appropriate regional office.

(b) You must ensure that the design and installation of tie-up facilities provide for substantial structures that will have a significant longevity, at least 20 years.

(c) You must ensure that you operate, maintain, and use the tie-up facilities and features for the stated grant purpose. You must obtain prior written approval from the appropriate regional director before you can convert these tie-up facilities to other uses.

§ 86.71 How will I be reimbursed?

For details on how you will be paid, refer to 43 CFR part 12, 31 CFR part 205, and any other regulations referenced in these parts.

§ 86.72 Are there any other requirements?

For administrative requirements not covered under these specific guidelines, you should check 43 CFR part 12, which generally applies to all Federal grant programs.

§ 86.73 What if I don't spend all the money?

You must return any unused funds that remain after the grant has been completed.

§ 86.74 What if I need more money?

Funds for grants are available only on a competitive basis. Therefore, if you need more money, you must compete in the next grant cycle.

Subpart H—Report Requirements for the States

§ 86.80 What are my reporting requirements for this grant program?

You must submit a quarterly performance report, an annual report, and a final performance report. For additional information on reporting, see 43 CFR part 12 and OMB Circular A-102.

§ 86.81 When are the reports due?

Reports are due as follows:

(a) Quarterly reports are due 30 days after the reporting period;

(b) Annual reports are due 90 days after the grant year; and

(c) The final performance report is due 90 days after the expiration or termination of grant support.

§ 86.82 What must be in the reports?

Reports must include the following:

(a) You must identify the actual accomplishments compared to the objectives established for the period;

(b) You must identify the reasons for any slippage if established objectives were not met; and

(c) You must identify any additional pertinent information including, when appropriate, analysis and explanation of cost overruns or high unit costs.

Subpart I—State Use of Signs and Sport Fish Restoration Symbols

§ 86.90 What are my responsibilities for information signs?

You should install appropriate information signs at boating infrastructure tie-up facilities. You should ensure that this information is clearly visible, directing boaters to the facility. Information should show fees, restrictions, hours of operation, a contact name, and telephone number to report an inoperable facility.

§ 86.91 What are my program crediting responsibilities?

You should give public credit to the Sport Fish Restoration program as the source of funding for the Boating Infrastructure Grant Program. You should recognize this program by using the Sport Fish Restoration logo. You may use the crediting logo identified in § 80.26 of this chapter to identify National Boating Infrastructure Grant Program projects.

§ 86.92 Who can use the SFR logo?

You the State may use the SFR logo. Encourage others to display the logo. Other people or organizations may use the logo for purposes related to the National Boating Infrastructure Grant Program as authorized in § 80.26 of this chapter.

§ 86.93 Where should I use the SFR logo?

You should display the logo on tie-up facilities you construct, acquire, develop, or maintain under these grants. You should also use the logo on printed material or other visual representations that relate to project accomplishments or education/information. Refer to § 85.47 of this chapter for logo colors.

§ 86.94 What crediting language should I use?

Suggested examples of language to use when crediting the National Boating Infrastructure Grant Program follow:

(a) Example 1: The Sport Fish Restoration Program funded this facility thanks to your purchase of fishing equipment and motorboat fuels.

(b) Example 2: The Sport Fish Restoration Program is funding this construction thanks to your purchase of fishing equipment and motorboat fuels. And,

(c) Example 3: The Sport Fish Restoration Program funded this (pamphlet) thanks to your purchase of fishing equipment and motorboat fuels.

Subpart J—Service Completion of the National Framework

§ 86.100 What is the National Framework?

The National Framework is the method you must use to conduct a State survey to determine boating access needs in your State. “State survey” means boating access needs assessment or data collection to determine the adequacy, number, location, and quality of tie-up facilities and boat access sites providing access to recreational waters for all sizes of recreational boats. “Boat access site” means a place where boats less than 26 feet long enter the water. “Recreational waters” means navigable waters that recreational vessels 26 feet or more in length use for recreational purposes.

§ 86.101 What is the Service schedule to adopt the National Framework?

We plan to adopt the National Framework by April 30, 2000. We will consult with the States to develop this framework.

§ 86.102 How did the Service design the National Framework?

The Framework divides the survey into two components, boater survey and boat access provider survey.

(a) The boater survey component.

(1) We designed these questions to obtain information identifying boat user preferences and concerns for existing and needed access available to the public.

(2) The nontrailerable boat data set will fulfill informational needs for you to develop your State program plans as called for in the Act.

(3) The boater survey will survey registered boat owners in your State for two types of boats:

(i) Part A—for boats 26 feet or more in length.

(ii) Part B—for trailerable and ‘car-top’ boats (less than 26 feet long).

(b) The boat access provider component.

(1) We designed these questions to obtain information identifying boat access providers' ideas about current and needed facility and site locations, and providers' perceptions of boat user preferences and concerns regarding access.

(2) We developed these questions to guide interviews of boat access facility and site managers.

(3) The nontrailerable boat data set will fulfill the informational needs for you to develop your State plans as called for in the Act.

(4) The boat access provider survey will survey facility providers in your State for two types of boats:

(i) Part C—a survey to all providers in your State, including State agency and non State entities (Federal and local government entities, corporate and private/commercial providers) that operate tie-up facilities for boats 26 feet or more in length.

(ii) Part D—a survey to all providers in your State that operate boat access sites for boats less than 26 feet long.

Subpart K—How States Will Complete Access Needs Surveys

§ 86.110 What does the State survey do?

The State survey determines the current status of boating access facilities for all recreational boats in your State and your future boater access needs.

§ 86.111 Must I do a survey?

Surveys are not required. They are voluntary. However, if you do a survey, you must complete it following the National Framework to receive funds.

§ 86.112 What are the advantages of doing a survey?

Surveys provide the information necessary to fully understand the needs of boaters in your State. Surveys allow you to develop a meaningful plan to provide better access to boaters. Surveys are required to complete the plan. The plan will make you more competitive when you submit grants under this program. We will give you 15 points for having an approved plan.

§ 86.113 What if I have recently completed a boat access survey?

If the recent survey substantially answers the questions in § 86.118, the appropriate regional office will determine if it is sufficient to meet the needs of the program. If the regional office determines that the survey is not sufficient, you must complete that part(s) or an entire new survey to receive credit for completing a recent survey.

§ 86.114 Do I need to conduct a survey if I already have a plan installing tie-up facilities for boats 26 feet or more in length?

You need not conduct the survey if we certify that you have developed and are carrying out a State program plan that ensures there are and will be public boat access adequate to meet the needs of recreational boaters on your waters.

§ 86.115 How should I administer the survey?

Use a consultant or university specializing in administration of such surveys. Design the sample sizes needed to achieve statistical accuracy so the estimate is within 10 percent of the true number. You must not alter the survey questions, since we need information that is comparable nationwide. You may use a telephone, mail, or other type of survey for a sample population of boaters within the State. Costs for telephone and mail surveys are similar. However, response rate for mail surveys is lower, and not as effective. For boat access providers, we prefer you survey all State agency and non State providers, but you may survey a sample population. You may develop your own methodology to collect data, which may include telephone, mail, fax or other inventory means. We do not expect you to use automated, electronic, mechanic, or other means of information collection. Data collected are unique to each respondent. You should follow up on the same respondents until you reach 70 percent of the respondents.

§ 86.116 May I change the questions in the survey?

You must not change the questions. We have developed a survey instrument for completing the surveys. We are obtaining approval from OMB on the questions identified below. Such approval does not extend to additional questions.

§ 86.117 What is the Service schedule to approve the survey?

The Service schedule is as follows:

(a) Request for survey to OMB—by December 17, 1999.

(b) OMB approves Survey—by March 17, 2000.

(c) We notify you to begin surveys—by March 22, 2000.

(d) You submit your survey results to regional offices, or we certify you have an adequate State program plan—by August 19, 2000. And,

(e) Regions approve surveys—by September 19, 2000.

§ 86.118 What are the questions in this survey instrument?

(a) We divided this survey into four parts. Part A is for transient nontrailerable boat owners. Part B is for trailerable or “car-top” (less than 26 feet) boat owners. Part C is for State agency and non State providers of facilities for boats 26 feet or more in length in the State. Part D is for State and non State providers of access sites for trailerable or “car-top” boats.

(b) Follow these instructions to complete Part A—BOAT OWNER SURVEY FOR TIE-UP FACILITIES FOR BOATS 26 FEET OR MORE IN LENGTH:

(1) If the boater owns a boat 26 feet or more in length, ask the boater to fill out Part A.

(2) If the boater owns more than one boat 26 feet or more in length, ask the boater to provide information for the boat he or she uses MOST OFTEN.

(3) If the boater owns at least one boat more than and at least one boat less than 26 feet in length, ask the boater to fill out both Parts A and B. And,

(4) You should collect enough information to obtain the sample size needed to achieve statistical accuracy so the estimate is within 10 percent of the true number.

(c) Follow these instructions to complete Part B—BOAT OWNER SURVEY FOR TRAILERABLE OR ‘CAR-TOP’ BOAT ACCESS SITES:

(1) If the boater owns a boat less than 26 feet long, ask the boater to fill out Part B.

(2) If the boater owns more than one boat less than 26 feet long, ask the boater to provide information for the boat he or she uses most.

(3) If the boater owns at least one boat more than and at least one boat less than 26 feet in length, ask the boater to complete both Parts A and B. And,

(4) You should collect enough information to obtain the sample size needed to achieve statistical accuracy so the estimate is within 10 percent of the true number.

(d) Parts C and D are the transient tie-up facility and boat access site provider surveys. Part C is for State agency and non State providers of facilities for boats 26 feet or more in length in the State. Part D is for State and non State providers of boat access sites for boats under 26 feet in length.

(e) Follow these instructions to complete Part C—STATE AGENCY AND NON STATE PROVIDER SURVEY FOR TRANSIENT TIE-UP FACILITIES:

(1) Ask State agency and non State providers of transient facilities for boats 26 feet or more in length to fill out Part C.

(2) If more than one State agency manages these facilities, send this survey to all of those agencies.

(3) If the State agency or non State provider awards grants to others who provide facilities, ask these grantees to respond for these facilities instead of the State agency or non State provider.

(4) If a State agency or non State provider operates transient facilities/sites for both nontrailerable and trailerable boats, ask the provider to fill out both Parts C and D.

(5) Ask State agency and non State providers to identify all transient tie-up facilities.

(6) For all questions, if you need additional space, make copies of the appropriate page.

(f) Follow these instructions to complete Part D—STATE AGENCY AND NON STATE PROVIDER SURVEY FOR TRAILERABLE OR ‘CAR-TOP’ BOAT ACCESS SITES:

(1) Ask State agency and non State providers of boat access sites for boats less than 26 feet long to fill out Part D.

(2) Non State providers include the Federal Government, local government, corporate, private/commercial, etc., providers.

(3) If more than one State agency manages these sites, send this survey to all of them.

(4) If the State agency or non State provider awards grants to others who provide sites, ask these grantees to respond for these sites instead of the State agency or non State provider.

(5) If a State agency or non State provider operates transient facilities/sites for both nontrailerable and trailerable boats, ask the provider to fill out both Parts C and D.

(6) We prefer that the State agency or non State provider identify all boat access sites and water-bodies, but if he or she has many sites and water-bodies, the provider may group the information together rather than identify each site individually. “Water-body” means the lake, section of river, or specific area of the coast, such as a harbor or cove, where tie-up facilities or boat access sites are located.

(7) For all questions, if you need additional space, make copies of the appropriate page.

(g) Following is the survey instrument for Parts A through D:

Subpart L—Completing the Comprehensive National Assessment

§ 86.120 What is the Comprehensive National Assessment?

The Comprehensive National Assessment is a national report integrating the results of State boat access needs and facility surveys.

§ 86.121 What does the Comprehensive National Assessment do?

The Comprehensive National Assessment determines nationwide the adequacy, number, location, and quality of public tie-up facilities and boat access sites for all sizes of recreational boats.

§ 86.122 Who completes the Comprehensive National Assessment?

The Service completes the Assessment. We will develop standards in consultation with the States.

§ 86.123 When is the Comprehensive National Assessment due?

The Comprehensive National Assessment is due as follows:

(a) We develop the assessment by February 20, 2001;

(b) The public reviews the assessment by April 5, 2001; and,

(c) We complete the assessment by June 4, 2001.

§ 86.124 What are the Comprehensive Assessment products?

The Comprehensive Assessment products are:

(a) A single report, including the following information:

(1) A national summary of all the information gathered by you in your survey.

(2) A table of States showing the results of the information gathered.

(3) One-page individual State summaries of the information.

(4) Appendices that include the survey questions, and names, addresses, and telephone numbers of State contacts.

(5) An introduction, background, methodology, results, and findings.

(6) Information on the following:

(i) Boater trends, such as what types of boats they own, where they boat, and how often they boat.

(ii) Boater needs, such as where facilities and sites are now found, where boaters need new facilities and boat access sites, and what changes of features boaters need at these facilities and sites. And,

(iii) Condition of facilities, such as replacement and maintenance costs.

(b) Summary report abstracting important information from the final national report. And,

(c) A key findings fact sheet suitable for widespread distribution.

Subpart M—How States Will Complete the State Program Plans

§ 86.130 What does the State program plan do?

The State program plan identifies the construction, renovation, and maintenance of tie-up facilities needed to meet nontrailerable recreational vessel user needs in the State.

§ 86.131 Must I do a plan?

Plans are not required. They are voluntary. However, if you do a plan, you must complete it following these regulations.

§ 86.132 What are the advantages to doing a plan?

Plans provide the information necessary to fully understand the needs of boaters in your State. The plan will make you more competitive when you submit grants under this program. We will give you 15 points for having an approved plan.

§ 86.133 What are the plan standards?

You must base State program plans on a recent, completed survey following the National Framework.

§ 86.134 What if I am already carrying out a plan?

You need not develop a program plan if we certify that you have developed and are carrying out a plan that ensures there are and will be public boat access adequate to meet the needs of recreational boaters on your waters.

§ 86.135 What is the Service schedule to approve the plans?

The Service schedule is as follows:

(a) You begin developing program plans by September 19, 2000.

(b) You submit plans to our regional office by November 3, 2000. And,

(c) Our regional office approves State program plans by December 3, 2000.

§ 86.136 What must be in the plan?

The plan must:

(a) Identify current boat use and patterns of use.

(b) Identify current tie-up facilities and features open to the public, and their condition.

(c) Identify boat access user needs and preferences and their desired locations. Include repair, replacement, and expansion needs, and new tie-up facilities and features needed.

(d) Identify factors that inhibit boating in specific areas, such as lack of facilities, or conditions attached that inhibit full use of facilities. Identify strategies to overcome these problems.

(e) Identify current value of tie-up facilities, and maintenance and replacement costs. And,

(f) Include information about the longevity of current tie-up facilities.

§ 86.137 What variables should I consider?

You should consider the following variables:

(a) Location of population centers,

(b) Boat-based recreation demand,

(c) Cost of development,

(d) Local support and commitment to maintenance,

(e) Water-body size,

(f) Nature of the fishery and other resources,

(g) Geographic distribution of existing tie-up facilities,

(h) How to balance the need for new tie-up facilities with the cost to maintain and improve existing facilities, and

(i) Other variables as needed.

Dated: December 16, 1999.
Donald J. Barry,
Assistant Secretary for Fish and Wildlife and Parks.

[FR Doc. 00-177 Filed 1-19-00; 8:45 am]

BILLING CODE 4310-55-P